DEPARTMENT OF HEALTH AND HUMAN SERVICES

National Institutes of Health

Proposed; 60-Day Comment Request; Evaluations of the Clinical Courses Developed by the National Institutes of Health Centers of Excellence in Pain Education

SUMMARY: In compliance with the requirement of Section 3506(c)(2)(A) of the Paperwork Reduction Act of 1995, for opportunity for public comment on proposed data collection projects, the National Institute on Drug Abuse (NIDA), the National Institutes of Health (NIH) will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project contact: Dr. David Thomas, Director of the NIH Centers of Excellence in Pain Education Program, National Institute on Drug Abuse, 6001 Executive Blvd., Room 3165, Rockville, MD 20852, or call non-toll free number (301) 435-1313, or Email your request, including your address to: dthomas1@nida.nih.gov. Formal requests for additional plans and instruments must be requested in writing.

DATES: Comments Due Date: Comments regarding this information collection are best assured of having their full effect if received within 60-days of the date of this publication.

Proposed Collection: Evaluations of the Clinical Courses Developed at the National Institutes of Health Centers of Excellence in Pain Education, 0925-New, National Institute on Drug Abuse (NIDA), National Institutes of Health (NIH).

Need and Use of Information Collection: The NIH Centers on Pain Education were funded to develop clinical training courses for pain management curricula that will advance the assessment, diagnosis, and safe treatment of a wide variety of pain conditions while minimizing the abuse of opioid pain relievers. These courses have been developed and assessed for feasibility, reliability, content validity, at their respective Centers. They need to be assessed for effectiveness in teaching and learning, to make improvements to them, before they are made available for the public. Course development was conducted independently by each Center, and followed the policies and practices of the teaching institutions, and the emphases that each institution may place on training. Each Center will need information collection instruments tailored to its specific courses, therefore a generic clearance is requested. Different methods of assessment will be used.

Data collection methods to be used in these studies include multiple choice questions pre- and post-training for each learner group; Information collected from patient charts (of patients treated by learners after training); Reflective essays from students on effect of training on their knowledge; Post Test questionnaires and interviews of learners, and or instructors, to examine satisfaction with quality of content, quality of instructional methods, usability; Invited expert review, formal peer review; Questionnaires at workshops on quality of content, quality of educational methods, usability of technology; Telephone and in-person surveys; Focus groups and individual in-depth unstructured interviews. The results from the evaluations will be used to (1) improve the courses; (2) identify the best courses and platforms for teaching pain management to various care providers; and for the subsequent evaluation of the overall Program that the NIH will conduct to assess its impact.

OMB approval is requested for 3 years. There are no costs to respondents other than their time. The total estimated annualized burden hours are 2200.

Estimated Annualized Burden Hours
Form name (data collection activity) | Type of respondent | Number of respondents | Number of responses per respondent | Average time per response (in hours) | Total annual burden hour
In-person and electronic surveys pre-test | Adults trained in the courses | 2400 | 1 | 15/60 | 600
In-person and electronic surveys post-test | Adults trained in the courses | 2400 | 1 | 15/60 | 600
Reflective essays | Adults trained in the courses | 200 | 1 | 1 | 200
Electronic surveys—second post-test | Adults trained in the courses | 1200 | 1 | 15/60 | 300
Focus Groups and Individual in-depth interviews | Adults | 200 | 1 | 2 | 400
Telephone surveys Practitioners using the e-curricula resources | Adults | 200 | 1 | 30/60 | 100

Dated: April 11, 2014.
Glenda J. Conroy,
Executive Officer (OM Director), NIDA, NIH.

[FR Doc. 2014-08907 Filed 4-17-14; 8:45 am]

BILLING CODE 4140-01-P